DEPARTMENT OF THE INTERIOR

Bureau of Land Management

[WY-040-1430-ES; WYW-138016]

Realty Action; Sweetwater County, Wyoming

AGENCY: Bureau of Land Management, Interior.

ACTION: Notice of realty action; classification of public lands for recreation and public purposes, (R&PP), Sweetwater County, Wyoming.

SUMMARY: The following public lands have been examined and found suitable for classification for lease or conveyance under the provisions of the Recreation and Public Purposes Act, as amended (43 U.S.C. 869 et seq.). Sweetwater County intends to use the land for construction of a county jail facility.

Sixth Principal Meridian

T. 18 N., R. 105 W.

Lot 7, NE¼SW¼, NW¼SE¼

The land described above contains 105 acres.

FOR FURTHER INFORMATION CONTACT: Judy Mueller, Rock Springs Field Office, Bureau of Land Management, 280 Highway 191 North, Rock Springs, Wyoming 82901, (307-352-0243).

SUPPLEMENTARY INFORMATION: The lands are not needed for Federal purposes. Lease or conveyance is consistent with the Green River Resource Area Resource Management Plan dated August 8, 1997 and would be in the public interest. The conveyance, when completed, will be subject to the following terms, conditions, and reservations:

1. Provisions of the Recreation and Public Purposes Act and to all applicable regulations of the Secretary of the Interior. As a result of an investigation of the lands covered by this application the United States has determined, that no hazardous substances are present on the property. The land conveyed under § 2743.2 of this part shall revert to the United States unless substantially all of the lands have been used in accordance with the plan and schedule of development.

If, at any time, the patentee transfers to another party ownership of any portion of the land not used for the purpose(s) specified in the application and the plan of development, the patentee shall pay the Bureau of land Management the fair market value, as determined by the authorized officer, of the transferred portion as of the date of transfer, including the value of any improvements thereon.

2. A right-of-way for ditches and canals constructed by the authority of the United States.

3. All minerals shall be reserved to the United States, together with the right to prospect for, mine, and remove the minerals.

4. There will be a decrease of 105 Federal acres within the rock Springs Grazing Allotment. The ten (10) animal Use Months (AUMs) associated with the 105 acre parcel will be canceled. Mr. Leonard Hay, on behalf of the Rock Springs Grazing Association, has signed a waiver allowing for cancellation of the ten (10) Federal AUMs from this allotment.

Upon publication of this notice in the Federal Register the lands will be segregated from all other forms of appropriation under the public land laws, including the general mining laws, except for conveyance under the Recreation and Public Purposes Act and leasing under the mineral leasing laws.

For a period of 45 days from the date of issuance of this notice, interested parties may submit comments regarding the proposed lease conveyance or classification of the lands to the Assistant Field Manager, Minerals & Lands, 280 Highway 191 North, Rock Springs, Wyoming 82901.

Classification Comments: Interested parties may submit comments involving the suitability of the land for a county jail facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the Bureau of land Management followed proper administrative procedures in reaching the decision; or any other factor not directly related to the suitability of the land for a county jail facility. Any adverse comments will be reviewed by the State Director, who may sustain, vacate, or modify this realty action. In the absence of any objections, the classification will become effective 60 days from the date of publication of this notice in the Federal Register.

Dated: April 19, 2002.
John S. McKee,
Field Manager.

[FR Doc. 02-12925 Filed 5-22-02; 8:45 am]

BILLING CODE 4310-22-M